FEDERAL COMMUNICATIONS COMMISSION

[DA 00-2692]

Consumer/Disability Telecommunications Advisory Committee

AGENCY: Federal Communications Commission.

ACTION: Notice.

SUMMARY: This document announces formation of the Consumer/Disability Telecommunications Advisory Committee (hereinafter “the Committee”) to make recommendations to the Commission regarding consumer and disability issues within the jurisdiction of the Commission and to facilitate the participation of consumers (including people with disabilities and underserved populations) in proceedings before the Commission. The Commission also requests applications of representatives to serve on the Committee.

DATES: Applications should be received no later than January 15, 2001.

ADDRESSES: Applications should be sent to the Federal Communications Commission, Consumer Information Bureau, Attn: Scott Marshall, 445 12th Street, SW., Washington, DC 20554.

FOR FURTHER INFORMATION CONTACT: Scott Marshall, Consumer Information Bureau, Federal Communications Commission, and 445 12th Street, SW., Washington, DC 20554. Telephone 202-418-2809 (voice) or 202-418-0179 (TTY).

SUPPLEMENTARY INFORMATION: This public notice, which announces formation of the Consumer/Disability Advisory Telecommunications Committee, was released November 30, 2000.

Electronic Access and Filing

A copy of this notice is also available in alternate formats (Braille, cassette tape, large print or diskette) upon request. It is also posted on the Commission's website at http://www.fcc.gov/cib/dro. Applications for membership on the Committee may also be sent to the Commission via email addressed to smarshal@fcc.gov or may be transmitted via facsimile to 202-418-1414.

Background

The Telecommunications Act of 1996 paved the way for a new era of greater competition and consumer choice in telecommunications for all Americans. Pursuant to the Federal Advisory Committee Act, 5 U.S.C. App II, the Commission announces the formation of the Consumer/Disability Telecommunications Advisory Committee to ensure that all Americans, including individuals with disabilities and underserved populations such as tribal nations, have equal access to telecommunications products and services; and to facilitate consumer involvement and input into all activities of the Commission.

Functions

The Committee will provide general guidance to the Federal Communications Commission, and will make specific recommendations on issues and questions presented to it through the Commission's Consumer Information Bureau (CIB). The issues or questions referred to the Committee will include, but are not limited to the following topic areas:

• Consumer Protection and Education (e.g., cramming, slamming, consumer friendly billing, detariffing, bundling of services, Lifeline/Linkup programs, customer service, privacy, telemarketing abuses, and outreach to underserved populations).

• Access by People with Disabilities (e.g., telecommunications relay services, video description, captioning, accessible billing, and access to telecommunications products and services).

• Impact of New and Emerging Technologies (e.g., availability of Broadband, digital television, cable, satellite, low power FM, and the convergence of these and emerging technologies).

• Enforcement and Consumer Participation in the FCC Rulemaking Process.

It is anticipated that the Committee will meet a minimum of two times per year in Washington, DC, and that approximately three informal subcommittees will be established to facilitate the Committee's work between meetings of the full Committee.

Applications for Membership

The Commission seeks applications from interested individuals or organizations from both the public and private sectors that wish to be considered for membership on the Committee. Selections will be made on the basis of factors such as expertise and viewpoints that are necessary to address effectively the questions presented to the Committee. Members should be recognized experts in their fields, including but not limited to, consumer advocacy organizations, organizations representing persons with disabilities, representatives of underserved populations, equipment manufacturers, telecommunications service providers (including wireless), broadcast/cable providers, state/local regulators, and/or other qualified persons serving in their individual capacities. Members must be willing to commit to a two-year term of service, should be willing and able to attend a minimum of two (2) one-day meetings per year of the Committee held in Washington, D.C., and are also expected to participate in deliberations of at least one subcommittee. The Commission is unable to pay per diem or travel costs. Members will have an initial and continuing obligation to disclose any interests in, or connections to, persons or entities who are, or will, be regulated by or that have interests before the FCC. The number of Committee members will be limited to effectively accomplish the Committee's work. Organizations with similar interests are encouraged to submit a single application to represent their interests. Although the Committee will be limited in size, there will be opportunities for the public to present written information to the Committee, participate through subcommittees, and to comment at Committee meetings. Applications should be sent to the Commission at the address listed at the beginning of this notice, and should be received by the Commission no later than January 15, 2001. The application should include the representative's name (and for organizations, the name of an alternate), title, address and telephone number, a statement of the interests represented and the consumer and/or disability issues of interest to the applicant; and a description of the applicant's qualifications. The application should further be supported by a statement indicating a willingness to serve on the Committee for a two-year period of time; to attend a minimum of two (2) one-day meetings per year in Washington DC; and a commitment to work on at least one subcommittee, at the applicant's own expense. After the applications have been reviewed, the Commission will publish a notice in the Federal Register announcing the appointment of the Committee members and the first meeting date of the Committee. It is anticipated that the first Committee meeting will take place in March of 2001.

The Committee will operate in accordance with the Federal Advisory Committee Act, 5 U.S.C. App II. Each meeting will be open to the public. A notice of each meeting will be published in the Federal Register at least fifteen (15) days in advance of the meeting. Records will be maintained of each meeting and made available for public inspection.

Federal Communications Commission.
Karen Peltz Strauss,
Deputy Bureau Chief, Consumer Information Bureau.

[FR Doc. 00-31082 Filed 12-5-00; 8:45 am]

BILLING CODE 6712-01-U